DEPARTMENT OF TRANSPORTATION

Federal Motor Carrier Safety Administration

[Docket No. FMCSA-2014-0215; FMCSA-2015-0323; FMCSA-2016-0008;FMCSA-2018-0028; FMCSA-2018-0053; FMCSA-2018-0056; FMCSA-2020-0050; FMCSA-2022-0045; FMCSA-2022-0046]

Qualification of Drivers; Exemption Applications; Epilepsy and Seizure Disorders; Correction

AGENCY: Federal Motor Carrier Safety Administration (FMCSA), Department of Transportation (DOT).

ACTION: Notice of renewal of exemptions; request for comments; correction.

SUMMARY: FMCSA corrects its January 6, 2025, notice requesting comments for 19 individuals to renew exemptions from the Agency's requirement in the Federal Motor Carrier Safety Regulations (FMCSRs) that interstate commercial motor vehicle (CMV) drivers have no established medical history or clinical diagnosis of epilepsy or any other condition which is likely to cause loss of consciousness or any loss of ability to control a CMV. An individual's name was misspelled, and this notice corrects that error.

DATES: This correction is effective March 27, 2025. Comments on the notice must be received on or before March 5, 2025.

FOR FURTHER INFORMATION CONTACT: Ms. Christine A. Hydock, Chief, Medical Programs Division, FMCSA, DOT, 1200 New Jersey Avenue SE, Room W64-224, Washington, DC 20590-0001; (202) 366-4001; fmcsamedical@dot.gov. Office hours are from 8:30 a.m. to 5 p.m. ET Monday through Friday, except Federal holidays. If you have questions regarding viewing materials in the docket, contact Dockets Operations, (202) 366-9826.

SUPPLEMENTARY INFORMATION: On January 6, 2025 (90 FR 718), FMCSA published a notice of renewal of exemption in which the Agency announced its decision to renew exemptions for 19 individuals from the requirement that interstate CMV drivers have “no established medical history or clinical diagnosis of epilepsy or any other condition which is likely to cause loss of consciousness or any loss of ability to control a CMV.” The exemptions enable these individuals who have had one or more seizures and are taking anti-seizure medication to operate CMVs in interstate commerce, provided certain conditions are satisfied. The name of an individual listed in the notice is misspelled. Through this notice, FMCSA corrects the error in the spelling of their name.

In FR Doc. 2024-31759 appearing on page 718 in the Federal Register of January 6, 2025, the following correction is made:

1. On page 719, in the second column, the individual's name, “Kieth Maat (KS)” is corrected to read “Keith Maat (KS).”

Issued under authority delegated in 49 CFR 1.87.

Larry W. Minor,
Associate Administrator for Policy.

[FR Doc. 2025-05256 Filed 3-26-25; 8:45 am]

BILLING CODE 4910-EX-P